COMMITTEE FOR PURCHASE FROM PEOPLE WHO ARE BLIND OR SEVERELY DISABLED

Procurement List; Proposed Addition and Deletions

AGENCY: Committee for Purchase From People who are Blind or Severely Disabled.

ACTION: Proposed addition to and deletions from the Procurement List.

SUMMARY: The Committee is proposing to add a service(s) to the Procurement List that will be provided by nonprofit agency employing persons who are blind or have other severe disabilities, and deletes product(s) and service(s) previously furnished by such agencies.

DATES: Comments must be received on or before: March 24, 2019.

ADDRESSES: Committee for Purchase From People who are Blind or Severely Disabled, 1401 S. Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Addition

If the Committee approves the proposed addition, the entities of the Federal Government identified in this notice will be required to procure the service(s) listed below from nonprofit agency employing persons who are blind or have other severe disabilities.

The following service is proposed for addition to the Procurement List for production by the nonprofit agency listed:

Service

Service Type: Janitorial Service

Mandatory for: U.S. Navy, NEX Food Court, Norfolk Naval Air Station,1560 Mall Drive, Norfolk, VA

Mandatory Source of Supply: Sara's Mentoring Center, Inc., Virginia Beach, VA

Contracting Activity: DEPT OF THE NAVY, Navy Exchange Service Command

Deletions

The following products and services are proposed for deletion from the Procurement List:

Products

NSN—Product Name: 6510-00-935-5823—Bandage, Elastic, 6″ x 4.5 Yards

NSN—Product Name: 8340-00-223-7849—Pole Section, Tent

Mandatory Source of Supply: Development Workshop, Inc., Idaho Falls, ID

Contracting Activity: Defense Logistics Agency Troop Support

Services

Service Type: JWOD Staffing Services

Mandatory for: GSA, Nationwide, Washington, DC

Mandatory Sources of Supply: Arizona Industries for the Blind, Phoenix, AZ, Columbia Lighthouse for the Blind, Washington, DC, The Lighthouse for the Blind, Inc., Seattle, WA, Alabama Industries for the Blind, Talladega, AL, Blind Industries & Services of Maryland, Baltimore, MD

Service Type: Furniture Rehabilitation

Mandatory for: GSA, National Furniture Center, Arlington, VA

Mandatory Source of Supply: J.M. Murray Center, Inc., Cortland, NY

Contracting Activity: General Services Administration, FPDS Agency Coordinator

Service Type: Computer Facilities Management Services

Mandatory for: Federal Center, Defense Reutilization & Marketing Service—POB: 74, North Washington—ADP Op, Battle Creek, MI

Mandatory Source of Supply: Peckham Vocational Industries, Inc., Lansing, MI

Contracting Activity: Defense Logistics Agency, DLA DISPOSITION SERVICES

Service Type: Sewing

Mandatory for: Redstone Arsenal, Huntsville, AL

Mandatory Source of Supply: Huntsville Rehabilitation Foundation, Huntsville, AL

Contracting Activity: Dept of the Army, W40M NORTHEREGION Contract OFC

Service Type: Shelf Stocking, Custodial & Warehousing

Mandatory for: Dahlgren Naval Surface Warfare Center, Dahlgren, VA

Mandatory Source of Supply: Rappahannock Goodwill Industries, Inc., Fredericksburg, VA

Contracting Activity: Defense Commissary Agency

Patricia Briscoe,
Deputy Director, Business Operations, Pricing and Information Management.

[FR Doc. 2019-03070 Filed 2-21-19; 8:45 am]

BILLING CODE 6353-01-P